DEPARTMENT OF ENERGY

Federal Energy Regulatory Commission

Combined Notice of Filings

Take notice that the Commission has received the following Natural Gas Pipeline Rate and Refund Report filings:

Filings Instituting Proceedings

Docket Numbers: CP13-521-000.

Applicants: Columbia Gas Transmission, LLC.

Description: Application to Abandon a Certain Rate Schedule.

Filed Date: 7/15/13.

Accession Number: 20130715-5227.

Comments Due: 5 p.m. ET 8/15/13.

Docket Numbers: RP13-1232-000.

Applicants: Transcontinental Gas Pipe Line Company.

Description: Northeast Supply Link Project Initial Rates to be effective 8/19/2013.

Filed Date: 8/7/13.

Accession Number: 20130807-5191.

Comments Due: 5 p.m. ET 8/12/13.

Docket Numbers: RP11-2400-000.

Applicants: Transcontinental Gas Pipe Line Company.

Description: Transcontinental Gas Pipe Line Company, LLC submits tariff filing per 154.501: Report of Refund Transco's GSS LSS Customers Share of DTI Penalty Revenue 2013.

Filed Date: 8/8/13.

Accession Number: 20130808-5023.

Comments Due: 5 p.m. ET 8/20/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-1105-001.

Applicants: Energy West Development, Inc.

Description: Order No. 587-V Compliance Filing Corrections to be effective 12/1/2012.

Filed Date: 8/7/13.

Accession Number: 20130807-5192.

Comments Due: 5 p.m. ET 8/19/13.

Docket Numbers: RP13-1214-001.

Applicants: Columbia Gas Transmission, LLC.

Description: ACA 2013—Errata to be effective 10/1/2013.

Filed Date: 8/7/13.

Accession Number: 20130807-5086.

Comments Due: 5 p.m. ET 8/19/13.

Docket Numbers: RP13-1215-001.

Applicants: Central Kentucky Transmission Company.

Description: ACA 2013—Errata to be effective 10/1/2013.

Filed Date: 8/7/13.

Accession Number: 20130807-5118.

Comments Due: 5 p.m. ET 8/19/13.

Docket Numbers: RP13-526-001.

Applicants: Gulf South Pipeline Company, LP.

Description: Compliance Filing in RP13-526-000 to be effective 4/1/2014.

Filed Date: 8/7/13.

Accession Number: 20130807-5047.

Comments Due: 5 p.m. ET 8/19/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 8, 2013.
Nathaniel J. Davis, Sr.,
Deputy Secretary.

[FR Doc. 2013-19893 Filed 8-15-13; 8:45 am]

BILLING CODE 6717-01-P